DEPARTMENT OF JUSTICE

Antitrust Division

Notice Pursuant to the National Cooperative Research and Production Act of 1993—Digital Manufacturing Design Innovation Institute

Notice is hereby given that, on September 19, 2018, pursuant to Section 6(a) of the National Cooperative Research and Production Act of 1993, 15 U.S.C. 4301 et seq. (“the Act”), Digital Manufacturing Design Innovation Institute (“DMDII”) has filed written notifications simultaneously with the Attorney General and the Federal Trade Commission disclosing changes in its membership. The notifications were filed for the purpose of extending the Act's provisions limiting the recovery of antitrust plaintiffs to actual damages under specified circumstances. Specifically, The Coca-Cola Company, Atlanta, GA; Phynsa LLC, Cincinnati, OH; PUNDITAS LLC, Wakefield, MA; United Electric Corporation, Canonsburg, PA; Mira Labs, Inc., Los Angeles, CA; ClearObject, Inc., Fishers, IN; Aegis Industrial Software Corporation, Horsham, PA; CH Hanson LLC, Naperville, IL; Marshall, Gerstein & Borun LLP, Chicago, IL; ARC Precision, Isanti, MN; Authenticiti, Inc., San Francisco, CA; DiMonte Group, Warrenville, IL; Applied Automation Technologies, Inc., Rochester Hills, MI; Janiero Digital, Chicago, IL; Simio, Pittsburgh, PA; Aunalytics, South Bend, IN; American Gear Manufacturers Association, Alexandria, VA; ML Design Technologies, Palo Alto, CA; Bain & Company, Boston, MA; Eural USA, Chicago, IL; Sigmaxim, Inc., Norwood, MA; Electric Imp., Los Altos, CA; Entringa, Chicago, IL; Fraight Inc., Chicago, IL; Xcelgo, Atlanta, GA; Duracell, Chicago, IL; ProMANAGE, Chicago, IL; DP Technology Corp., Camarillo, CA; ClearBlade, Austin, TX; CyberPoint International, Baltimore, MD; Proto Labs, Maple Plain, MN; SWARM Engineering, San Juan, Capistrano, CA; Catalytic, Naperville, IL; CyPhy Works, Danvers, MA; VANTIQ, Walnut Creek, CA; Alta Via Consulting, Palos Heights, IL; Beacon Interactive, Waltham, MA; Cimetrix Inc., Midvale, UT; Factory Physics, Bryan, TX; Ekta Flow LLC, Chicago, IL; Machine Metrics, Inc., Northampton, MA; RetoLogic, Santa Clara, CA; University of New Hampshire, Durham, NH; Consolidated Nuclear Security, Oak Ridge, TN; Design Interactive, Inc., Orlando, FL; EMNS, Inc., Downers Grove, IL; Supply Dynamics, Loveland, OH; Vision Three, Bloomington, IN; University of Central Florida, Orlando, FL; DMR International, Woodstock, IL; iBASEt, Foothill Ranch, CA; Shape Fidelity, Huntsville, AL; AE Machines, Champaign, IL; Montronix, Ann Arbor, MI; Transco Products, Chicago, IL; Hardinge, Inc., Elmira, NY; The Northridge Group, Rosemont, IL; BEET, Plymouth, MI; and Hallsten Innovations, Barberton, OH, have been added as parties to this venture.

Also, Warwick Analytics, Chicago, IL; Wittenstein North America, Bartlett, IL; Hallsten Innovations Ltd., Chicago, IL; Metrosage LLC, Volcano, CA; CUBRC, Buffalo, NY; Building Blocks, Inc., Chicago, IL; Manufacturing Renaissance, Chicago, IL; 3 Degrees LLC, Chicago, IL; Concurrent Technologies Corporation, Johnstown, PA; Alliance for Industry & Manufacturing, Chicago, IL; Strong Oak, Chicago, IL; Koneksys LLC, San Francisco, CA; Isola USA Corp., Chandler, AZ; Sera Laser Precision, Libertyville, IL; EDM Department, Inc., Bartlett, IL; Sensorhound, West Lafayette, IN; Actvcontent, Sunnyvale, CA; 4D Technology, Tucson, AZ; Huntington Ingalls, Inc., Pascagoula, MS; Grant Thornton, Chicago, IL; Agility Network Services, Chicago, IL; Isomorph Development, Inc., Cleveland, OH; Golden Corridor Advanced Manufacturing Partnership, Schaumburg, IL; Sandalwood Engineering & Ergonomics, Livonia, MI; Renaissance Service, Inc., Fairborn, OH; WW Grainger Inc., Lake Forest, IL; Tech Mahindra Americas Inc., Plano, TX; Boston Consulting Group, Boston, MA; CapGemini US LLC, Atlanta, GA; SaltFlats Labs, Santa Clara, CA; Verena Solutions LLC, Chicago, IL; Siewert Solutions, Wylie, TX; Rocky Mountain Technology Alliance, Inc., Colorado Springs, CO; Prairiefire Consulting Inc., Urbana, IL; Wiegel Tool Works, Wood Dale, IL; and Source3, New York, NY, have withdrawn as parties to this venture.

No other changes have been made in either the membership or planned activity of the group research project. Membership in this group research project remains open, and DMDII intends to file additional written notifications disclosing all changes in membership.

On January 5, 2016, DMDII filed its original notification pursuant to Section 6(a) of the Act. The Department of Justice published a notice in the Federal Register pursuant to Section 6(b) of the Act on March 9, 2016 (81 FR 12525).

The last notification was filed with the Department on June 26, 2017. A notice was published in the Federal Register pursuant to Section 6(b) of the Act on August 15, 2017 (82 FR 38709).

Suzanne Morris,
Chief, Premerger and Division Statistics Unit, Antitrust Division.

[FR Doc. 2018-21432 Filed 10-1-18; 8:45 am]

BILLING CODE 4410-11-P